DEPARTMENT OF JUSTICE

Antitrust Division

Notice Pursuant to the National Cooperative Research and Production Act of 1993; Telemanagement Forum

Notice is hereby given that, on June 8, 1999, pursuant to section 6(a) of the National Cooperative Research and Production Act of 1993, 15 U.S.C. 4301 et seq. (“the Act”), Telemanagement Form has filed written notifications simultaneously with the Attorney General and the Federal Trade Commission disclosing changes in its membership status. The notifications were filed for the purpose of extending the Act's provisions limiting the recovery of antitrust plaintiffs to actual damages under specified circumstances. Specifically, Citizens Communications, Dallas, TX; Bea Systems, Inc., Sunnyvale, CA; Telstra Corporation, Melbourne, AUSTRALIA; Telecordia Technologies, Red Bank, NJ; and Metamor Industry Solutions, Birmingham, AL have been added as Corporate Members. ETIS, Brussels, BELGIUM has been added as an Affiliate Member. Level (3) Communications, Westminster, CO; Raychem Corp., Menlo Park, CA; Telecommunications Management Network de Mexico, Mexico City, MEXICO; Object-Mart, Inc., San Jose, CA; Pathnet, Washington, DC; ITS., Inc., Piscataway, NJ; Teledesic LLC, Kirland, WA; Accunet Ltd., Newbury, Berkshire, ENGLAND; Telekom Applied Business SDN BHD, Kuala Lumpur, MALAYSIA; Commtech Corp., Cranbury, NJ; Streamsoft, Inc., Fremont, CA; Hitachi Telecom (USA); Inc., Norcross, GA; ISR Global Telecom, Orlando, FL; Protek, Kokstad, Bergen, NORWAY; SITA, Neuilly-sur-Seine, FRANCE; and Fore Systems, Dublin, IRELAND have been added as Associate Members. Also, Hitachi Telecom (USA), Inc., Norcross, GA; ISR Global Telecom, Orlando, FL; ETIS, Brussels, BElGIUM; Bellcore, Red Bank, NJ; and Technology and Process Consulting, Inc., Birmingham, AL have been dropped as Corporate Members. SITA, Neuilly-sur-Seine, FRANCE has been dropped as an Affiliate Member. Bea Systems, Inc., Sunnyvale, CA; Telstra Corp., Melbourne, AUSTRALIA; Nera AS, Kokstad, Bergen, NORWAY; and Euristix Ltd, Dublin, IRELAND have been dropped as Associate Members.

Nera AS is no Protek; Sita/Equant is now Sita; Bellcore is now Telcordia Technologies; Euristix is now Fore Systems; and Technology Process and Consulting, Inc. is now Metamor Industry Solutions.

No other changes have been made in either the membership or planned activity of the group research project. Membership in this group research project remains open, and Telemanagement Forum intends to file additional written notification disclosing all changes in membership.

On October 21, 1988, Telemanagement Forum filed its original notification pursuant to section 6(a) of the Act. The Department of Justice published a notice in the Federal Register pursuant to Section 6(b) of the Act on December 8, 1988 (53 FR 49615).

The last notification was filed with the Department on February 19, 1999. A notice has not yet been published in the Federal Register.

Constance K. Robinson,
Director of Operations Antitrust Division.

[FR Doc. 00-6956 Filed 3-20-00; 8:45 am]

BILLING CODE 4410-11-M